DEPARTMENT OF DEFENSE

Department of the Army, Corps of Engineers

Intent To Prepare a Programmatic Environmental Impact Statement for the Mouse River Enhanced Flood Protection Plan From Burlington, North Dakota Through Minot, North Dakota

AGENCY: U.S. Army Corps of Engineers, DoD.

ACTION: Notice of intent.

SUMMARY: In compliance with the National Environmental Policy Act (NEPA), the U.S. Army Corps of Engineers, St. Paul District (USACE) announces the intent to prepare a programmatic Environmental Impact Statement (EIS) for the Mouse River Enhanced Flood Protection Plan (MREFPP) from Burlington, North Dakota, to a point downstream of Minot, North Dakota. The purpose of the document is to evaluate the environmental impacts associated with the MREFPP.

FOR FURTHER INFORMATION CONTACT: Questions about the proposed action and programmatic EIS may be directed to: U.S. Army Corps of Engineers, St. Paul District, ATTN: Mr. Terry J. Birkenstock, Deputy Chief, Regional Planning & Environment Division North, 180 Fifth Street East, Suite 700, St. Paul, MN 55101-1678; telephone: (651) 290-5264; email terry.birkenstock@usace.army.mil.

SUPPLEMENTARY INFORMATION:

Background

The Mouse River (alternatively known as the Souris River) is approximately 435 miles long. The river begins in the southeastern portion of the Canadian province of Saskatchewan, flows south and east through north central North Dakota, and then turns north before returning to Canada in southwest Manitoba.

Most of the annual flow on the Mouse River is attributed to snow melt and spring rains. In June 2011, heavy rains in the upstream portions of the watershed exceeded the storage capacity of upstream reservoirs already full from the April snowmelt. Flows in excess of 26,900 cubic feet per second (cfs) overwhelmed the existing Federal flood risk management projects (designed to pass 5,000 cfs from Burlington to Minot) and emergency flood fighting efforts, causing over $690 million in damages to more than 4,700 structures.

The MREFPP Preliminary Engineering Report (PER) was developed for the North Dakota State Water Commission in February 2012. Implementation of the MREFPP is expected to extend over 20 years and involves the construction of more than 30 segments. Features of the MREFPP include 17.5 miles of new levees, 1.4 miles of channel realignment, 2 high-flow bypasses, 2.8 miles of new floodwalls, 6 bridge modifications, and 126 acres of overbank excavation. Additional details on the MREFPP PER can be found at mouseriverplan.com.

Proposed Action

The Souris River Joint Water Resources Board (SRJB) has proposed to move forward with the design and construction of the first three segments of the MREFPP, which includes approximately 2 miles of levees and 1,500 feet of floodwall. These segments would not, by themselves, provide independent utility for flood risk management. Features in the Burlington through Minot reach of the MREFPP are interdependent in the proposal for flood risk management and provide independent flood risk management benefits. Therefore, all effects associated with features in the Burlington through Minot reach of the MREFPP will be included in the scope of analysis evaluated through the programmatic EIS.

Federal Involvement

Construction of the MREFPP will require alteration of existing Federal flood risk management projects. Such alterations may be approved by the Secretary of the Army under the authority of 33 U.S.C. 408 (Section 408). Although the Federal government will not be constructing the alterations, approval of the alterations is a Federal action and therefore requires compliance with the NEPA and other applicable environmental laws including, but not limited to, the National Historical Preservation Act of 1966 (NHPA) and the Endangered Species Act of 1973 (ESA). Additionally, as part of the MREFPP, discharges of fill material have been proposed in waters of the United States, requiring a permit from USACE under 33 U.S.C. 1344 (Section 404 of the Clean Water Act). Issuance of a Section 404 permit is considered a Federal action, triggering NEPA, NHPA, and ESA obligations. Coordination with other Federal agencies will take place throughout the scoping process. USACE will act as the lead Federal agency for environmental compliance with the NEPA.

Scoping

Significant resources and issues have been and will continue to be identified through public meetings and coordination with Federal, State, and local agencies. A number of public meetings have been held to discuss the project, including meetings hosted by USACE on April 8, 2015, in Burlington and April 9, 2015 in Minot. An additional public scoping meeting will be held on August 19, 2015, at the Minot Municipal Auditorium, Room 201, 420 3rd Ave SW. in Minot, North Dakota. An open house will run from 6 p.m. until 7 p.m. central standard time and will be followed by presentations and public comment.

Preparation of the EIS is expected to take several months. It is anticipated that the programmatic EIS for the MREFPP will be available for public review in the summer/fall of 2016.

Dated: July 2, 2015.
Daniel C. Koprowski,
Colonel, Corps of Engineers, District Commander.

[FR Doc. 2015-17670 Filed 7-16-15; 8:45 am]

BILLING CODE 3720-58-P